DEPARTMENT OF THE INTERIOR

Bureau of Land Management

[LLAK910000 L13100000.DB0000 LXSINSSI0000]

Notice of Public Meeting, North Slope Science Initiative—Science Technical Advisory Panel

AGENCY: Bureau of Land Management, Alaska State Office, North Slope Science Initiative, Interior.

ACTION: Notice of public meeting.

SUMMARY: In accordance with the Federal Land Policy and Management Act (FLPMA) and the Federal Advisory Committee Act of 1972 (FACA), the U.S. Department of the Interior, North Slope Science Initiative (NSSI)—Science Technical Advisory Panel (STAP) will meet as indicated below:

DATES: The meeting will be held January 24-27, 2011, in Fairbanks, Alaska. The meetings will begin at 9 a.m. each day, at the University of Alaska Fairbanks, International Arctic Research Center, Room 401. Public comment will be received between 3 and 4 p.m. on Wednesday, January 26, 2011.

FOR FURTHER INFORMATION CONTACT: John F. Payne, Executive Director, North Slope Science Initiative, AK-910, c/o Bureau of Land Management, 222 W. Seventh Avenue, #13, Anchorage, AK 99513, (907) 271-3431 or e-mail john_f_payne@blm.gov.

SUPPLEMENTARY INFORMATION: The NSSI-STAP provides advice and recommendations to the NSSI Oversight Group regarding priority information needs for management decisions across the North Slope of Alaska. These priority information needs may include recommendations on inventory, monitoring, and research activities that contribute to informed land management decisions. The topics to be discussed at the meeting include:

• Emerging issue summaries from the STAP, including restoration/reclamation, cultural and Arctic fisheries.

• Planning for an NSSI workshop to be held in Barrow on March 29-31, 2011.

• Update on the project tracking system, database and public Web site.

• NSSI priority recommendations on implementing the emerging issues.

• Other topics the Oversight Group or STAP may raise.

All meetings are open to the public. The public may present written comments to the Science Technical Advisory Panel through the Executive Director, North Slope Science Initiative. Each formal meeting will also have time allotted for hearing public comments. Depending on the number of persons wishing to comment and time available, the time for individual oral comments may be limited. Individuals who plan to attend and need special assistance, such as sign language interpretation, transportation, or other reasonable accommodations, should contact the Executive Director, North Slope Science Initiative.

Before including your address, phone number, e-mail address, or other personal indentifying information in your comment, you should be aware that your entire comment—including your personal identifying information—may be made publicly available at any time. While you can ask us in your comment to withhold your personal identifying information from public review, we cannot guarantee that we will be able to do so.

Dated: December 9, 2010.
Bud C. Cribley,
Alaska State Director.

[FR Doc. 2010-31663 Filed 12-16-10; 8:45 am]

BILLING CODE 1310-JA-P